DEPARTMENT OF HEALTH AND HUMAN SERVICES

Centers for Disease Control and Prevention

National Resource Center on Sexual Violence Prevention

Announcement Type: New.

Funding Opportunity Number: 04067.

Catalog of Federal Domestic Assistance Number: 93.136.

Key Dates

Letter of Intent Deadline: February 18, 2004.

Application Deadline: April 5, 2004.

I. Funding Opportunity Description

Authority: This program is authorized under section 317(k), 392, and 393 of the Public Health Service Act, [42 U.S.C. section 247b(k), 280b-1, and 280b-1a] as amended.

Purpose: The purposes of this program are to:

1. Provide national leadership in the prevention of sexual violence.

2. Provide comprehensive information and resources on sexual violence (e.g. sexual violence across the lifespan, the continuum of prevention, etc.) through a central resource library and Web site.

3. Provide technical assistance and professional consultation to State sexual assault coalitions and local sexual assault programs; local, state, national and tribal agencies and organizations (including public health agencies and organizations), and the media designed to enhance the prevention of and community response to sexual violence.

For the purposes of this program announcement the following definitions apply:

Intervention: services, policies and actions provided after sexual violence has occurred and that may have the advantageous effect of preventing a re-occurrence of violence.

Prevention: population-based and/or environmental/system level services, policies and action that prevent sexual violence from initially occurring. Prevention efforts work to modify and/or entirely eliminate the event, conditions, situations, or exposure to influences (risk factors) that result in the initiation of sexual violence and associated injuries, disabilities, and deaths. Additionally, prevention efforts seek to identify and enhance protective factors that may prevent sexual violence not only in at-risk populations but also in the community at large.

This program addresses the “Healthy People 2010” focus area of Injury and Violence Prevention.

Measurable outcomes of the program will be in alignment with the following performance goal for the National Center for Injury Prevention and Control (NCIPC): Increase the capacity of injury prevention and control programs to address the prevention of injuries and violence.

Activities

Awardee activities for this program are as follows:

a. Collaborate with CDC on the implementation and evaluation of the resource center, which includes establishing mutually agreed upon goals and objectives, and participating in strategic planning.

b. Provide national leadership in the prevention of sexual violence.

c. Work with the media to respond to emerging issues and proactively communicate sexual violence prevention messages.

d. Collaborate with research and academic experts to provide statistics, fact sheets, specialized information packets, and original informational materials addressing a range of sexual violence issues including, but not limited to: sexual violence across the lifespan; sexual violence in unserved and/or underserved communities; and sexual violence as a public health issue.

e. Identify areas where additional research and evaluation is needed to complement policy and practice.

f. Maintain a central resource library to compile and disseminate information on statistics, research and evaluation findings, promising prevention strategies and intervention programs.

g. Maintain a website to communicate information about the resource center, resources and services available, and other information on emerging issues.

h. Provide a toll-free information line and an e-mail request box which allows the public access to information on sexual violence prevention and intervention tools; research and evaluation findings; and practice standards.

i. Provide a customized service available by phone, fax, mail, or electronic mail whereby programs, agencies, professionals, and the media may receive information packets, newsletters, bibliographies, policy papers, fact sheets, etc. This service should be designed and implemented in such a way as to meet the needs of programs, agencies and allied professionals residing in multiple time zones.

j. Provide a full-time manager and other staff as appropriate.

k. Establish and maintain collaborative relationships with national, state, local and tribal sexual violence prevention organizations, public health agencies and organizations, the recipient of the national online resource to support violence against women prevention cooperative agreement, and other CDC grantees and partners.

l. Actively market the resource center to a broad range of constituents (including researchers and practitioners in the sexual violence field as well as public health researchers and practitioners).

m. Establish and maintain an advisory board with professional experience and expertise in the area of sexual violence. Board members should represent multiple disciplines including child sexual abuse and public health, represent a balance between prevention and intervention expertise, and be culturally and racially/ethnically diverse.

n. Provide a detailed evaluation plan that will document program process, effectiveness, and outcomes. This plan should identify potential data sources for evaluation, document staff availability, expertise and capacity to perform the evaluation activities. The plan should also include how results or information will be used to make programmatic and/or operational decisions.

o. Participate in regular conference calls with CDC program staff and participate in CDC grantee meetings as requested by CDC.

p. Submit required reports to CDC as scheduled.

In a cooperative agreement, CDC staff is substantially involved in the program activities, above and beyond routine grant monitoring.

CDC Activities for this program are as follows:

a. Provide technical assistance and consultation in the design, implementation and evaluation of the resource center including participation in strategic planning, and advisory committee meetings.

b. Collaborate with resource center staff in identifying the most recent scientific and programmatic information around sexual violence prevention activities, including, but not limited to, CDC funded projects, extramural research, and initiatives with other agencies that support sexual violence prevention and intervention activities.

c. Arrange for information sharing among the resource center and other relevant CDC grantees and partners.

d. Participate in the concept development of original information materials and review all products before publishing.

II. Award Information

Type of Award: Cooperative Agreement. CDC involvement in this program is listed in the Activities Section above.

Fiscal Year Funds: 2004.

Approximate Total Funding: $700,000.

Approximate Number of Awards: One.

Approximate Average Award: $700,000.

Floor of Award Range: None.

Ceiling of Award Range: None.

Anticipated Award Date: September 1, 2004.

Budget Period Length: 12 months.

Project Period Length: Five years.

Throughout the project period, CDC's commitment to continuation of awards will be conditioned on the availability of funds, evidence of satisfactory progress by the recipient (as documented in required reports), and the determination that continued funding is in the best interest of the Federal Government.

III. Eligibility Information

1. Eligible applicants: Eligible applicants are limited to state sexual assault coalitions that receive the Sexual Assault Coalition Grants funded through the Violence Against Women Act (VAWA) (Pub. L. 106-386, section 1103(c), 42 U.S.C. section 3796gg-1-3796gg-3), as identified by (CDC) since the authorization and funding for this program is designated in the Rape Prevention and Education (RPE) section of VAWA. RPE funds are intended to support rape prevention and education programs of state sexual assault coalitions and local rape crisis programs. The National Resource Center on Sexual Violence Prevention will provide technical support for the RPE Program. Because of the unique expertise, experience and knowledge base of state sexual assault coalitions, they are best positioned to implement the required components of a national resource center.

III.2. Cost Sharing or Matching: Matching funds are not required for this program.

III.3. Other:

Note: Title 2 of the United States Code section 1611 states that an organization described in section 501(c)(4) of the Internal Revenue Code that engages in lobbying activities is not eligible to receive Federal funds constituting an award, grant, or loan.

IV. Application and Submission Information

IV.1. Address To Obtain Application Package: To apply for this funding opportunity use application form PHS 5161. Forms and instructions are available on the CDC Web site, at the following Internet address: http://www.cdc.gov/od/pgo/forminfo.htm. If you do not have access to the Internet, or if you have difficulty accessing the forms on-line, you may contact the CDC Procurement and Grants Office Technical Information Management Section (PGO-TIM) staff at: 770-488-2700. Application forms can be mailed to you.

IV.2. Content and Form of Submission: Letter of Intent (LOI): CDC requests that you send a LOI if you intend to apply for this program. Your LOI will be used to gauge the level of interest in this program, and to allow CDC to plan the application review. Your LOI must be written in the following format:

• Maximum number of pages: 2.

• Font size: 12-point unreduced.

• Paper size: 8.5 by 11 inches.

• Single spaced.

• Page margin size: 1.5 inches—left, 1 inch—top, bottom, and right.

• Printed only on one side of page.

Your LOI must contain the following information:

• Number and title of this Program Announcement (PA #).

Application

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

You must submit a signed hard copy original and two copies of your application forms.

You must include a project narrative with your application forms. Your narrative must be submitted in the following format:

• Maximum number of pages: 25. If your narrative exceeds the page limit, only the first pages which are within the page limit will be reviewed.

• Font size: 12 point unreduced.

• Double spaced.

• Paper size: 8.5 by 11 inches.

• Page margin size: One inch.

• Printed only on one side of page.

• Held together only by rubber bands or metal clips; not bound in any other way.

• Written in plain language, avoid jargon.

Your narrative should address activities to be conducted over the entire project period, and must include the following items in the order listed:

• Abstract (one-page summary of the application, does not count towards page limit).

• Applicant's Relevant Experience.

• Plan to Implement the Resource Center.

• Applicant's Capacity and Staffing.

• Collaboration.

• Marketing Plan.

• Measures of Effectiveness.

• Proposed Budget and Justification (does not count towards page limit).

Guidance for completing your budget can be found on the CDC Web site, at the following Internet address: http://www.cdc.gov/od/pgo/funding/budgetguide.htm.

Additional information may be included in the application appendices. The appendices will not be counted toward the narrative page limit. This additional information includes:

• Curriculum Vitae.

• Job Descriptions.

• Resumes.

• Organizational Charts.

• Letters of Support, etc.

IV.3. Submission Dates and Times:

LOI Deadline Date: February 18, 2004.

Application Deadline Date: April 5, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This program announcement is the definitive guide on application format, content, and deadlines. It supersedes information provided in the application instructions. If your application does not meet the deadline above, it will not be eligible for review, and will be discarded. You will be notified that you did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications: Executive Order 12372 does not apply to this program.

IV.5. Funding Restrictions: Funding restrictions, which must be taken into account while writing your budget are as follows: cooperative agreement funds for this project cannot be used for construction, renovation, the lease of passenger vehicles, the development of major software applications, or supplanting current applicant expenditures.

If you are requesting indirect costs in your budget, you must include a copy of your indirect cost rate agreement. If your indirect cost rate is a provisional rate, the agreement must be less than 12 months of age.

IV.6. Other Submission Requirements:

LOI Submission Address: Submit your LOI by express delivery service, or e-mail to:

Karen Lang, Project Officer, 2939 Flowers Road South, Atlanta, GA 30341, (770) 488-1118, klang@cdc.gov.

Application Submission Address: Submit your application by mail or express delivery service to:

Technical Information Management-PA 04067, CDC Procurement and Grants Office, 2920 Brandywine Road, Atlanta, GA 30341.

Applications may not be submitted electronically at this time.

V. Application Review Information

V.1. Criteria: You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Applicant's Relevant Experience (30 points)

a. The extent to which the applicant has demonstrated experience coordinating, collaborating and providing leadership on a national level with regard to sexual violence.

b. The extent to which the applicant has demonstrated experience in managing a central resource library specializing in sexual violence prevention and intervention information and resources.

c. The extent to which the applicant has demonstrated experience providing technical assistance and professional consultation on sexual violence prevention to sexual violence practitioners, public health practitioners, policy makers, and the media.

d. The extent to which the applicant has demonstrated experience creating and distributing fact sheets, original informational materials, specialized information packets and other materials on sexual violence prevention and intervention through a variety of mediums.

e. The extent to which the applicant has demonstrated experience in compiling, synthesizing and disseminating research and evaluation findings, information on innovative prevention strategies and intervention programs through a variety of mediums.

f. The extent to which the applicant has demonstrated experience maintaining a web site and distributing timely information via the Internet.

g. The extent to which the applicant has demonstrated experience working with the media to respond to emerging issues and proactively communicate sexual violence prevention messages.

2. Plan To Implement the Resource Center (25 points)

a. The extent to which the applicant provides clearly stated goals and corresponding objectives that are time-phased, specific, attainable, and measurable.

b. The extent to which the applicant provides a 5-year vision for how the resource center will be flexible and adaptable in incorporating change and growth in technology as well as changes in priorities and context of the sexual violence and public health fields.

c. The extent to which the applicant provides a clear description of the role and involvement of the advisory board and has identified participants representing a broad range of disciplines that work in the area of sexual violence, including public health.

d. The extent to which the applicant demonstrates a specific and achievable plan to market the resource center to a diverse range of constituents, including public health.

3. Applicant's Capacity and Staffing (20 points)

a. The extent to which the applicant demonstrates an existing capacity and infrastructure (including institutional experience, evidence of leadership, comprehensive resource library of sexual violence materials, adequate server space and other information technology) to manage the resource center and carry out the required activities in the cooperative agreements.

b. The extent to which the applicant's description of the responsibilities of individual staff members, including the level of effort and allocation of time, demonstrates an ability to effectively manage and implement the activities of this cooperative agreement.

c. The extent to which the project staff are clearly described and have appropriate skills and expertise for their assigned staff position. Additionally, the applicant has included an organizational chart and curriculum vitae or position description for each proposed staff member.

d. The extent to which the applicant describes plans to train new staff and support existing staff to carry out the program plan.

4. Collaboration (15 points)

a. The extent to which the applicant demonstrates a willingness to collaborate with CDC in the design, implementation and evaluation of the resource center.

b. The extent to which the applicant demonstrates a willingness to collaborate with other relevant CDC grantees and partners, including the recipient of the national online resource to support the prevention of violence against women.

c. The extent to which the applicant demonstrates a successful history of collaborating effectively with other organizations at the local, state, national and tribal levels. Additionally, the applicant has included letters of support and/or memoranda of agreement from national and state sexual violence organizations, research and/or academic experts/institutions, and other relevant agencies and organizations, including public health agencies and organizations.

5. Evaluation (10 points)

a. The extent to which the applicant provides a detailed description of the methods to be used to evaluate program effectiveness, including what will be evaluated, data to be collected and analyzed, who will perform the evaluation, the time-frame and how data will be used for program enhancement.

b. The extent to which the applicant documents staff availability, expertise, and capacity to evaluate program activities and effectiveness. Evaluation should include progress towards meeting the objectives during the budget and project periods, and the impact of program activities on the individuals and agencies accessing center resources. Describe how evaluation results will be used to make programmatic decisions, mid course corrections and how results will be reported.

c. The extent to which the applicant's evaluation plan includes a component for assessing consumer satisfaction as well as periodic assessment of emerging issues and information needs in the sexual violence field.

6. Measures of Effectiveness (not scored)

The extent to which the applicant provided objective/quantifiable measures regarding the resource center's intended outcomes that will demonstrate the accomplishment of the various identified objectives of the cooperative agreement.

7. Budget (Not Scored)

The applicant should provide a detailed budget with complete line-item justification of all proposed costs consistent with the stated activities in the program announcement. Details must include a breakdown in the categories of personnel (with time allocations for each), staff travel, communications and postage, equipment, supplies, and any other costs. The budget projection must also include a narrative justification for all requested costs. Any sources of additional funding beyond the amount stipulated in this cooperative agreement should be indicated, including donated time or services. For each expense category, the budget should indicate CDC share, the applicant share and any other support. These funds should not be used to supplant existing efforts.

V.2. Review and Selection Process: An objective review panel will evaluate your application according to the criteria listed above.

V.3. Anticipated Announcement and Award Dates:

Announcement Date: None.

Award Date: September 1, 2004.

VI. Award Administration Information

VI.1. Award Notices: Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements: 45 CFR part 74 and part 92: For more information on the Code of Federal Regulations, see the National Archives and Records Administration at the following Internet address: http://www.access.gpo.gov/nara/cfr/cfr-table-search.html.

The following additional requirements apply to this project:

• AR-10 Smoke-Free Workplace Requirements.

• AR-11 Healthy People 2010.

• AR-12 Lobbying Restrictions.

• AR-13 Prohibition on Use of CDC Funds for Certain Gun Control Activities.

• AR-15 Proof of Non-Profit Status.

Additional information on these requirements can be found on the CDC Web site at the following Internet address: http://www.cdc.gov/od/pgo/funding/ARs.htm.

VI.3. Reporting Requirements:

You must provide CDC with a hard copy original, plus two copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

2. Financial status report, no more than 90 days after the end of the budget period.

3. Final financial and performance reports, no more than 90 days after the end of the project period.

These reports must be mailed to the Grants Management Specialist listed in the “Agency Contacts” section of this announcement.

VII. Agency Contacts

For general questions about this announcement, contact: Technical Information Management Section, CDC Procurement and Grants Office, 2920 Brandywine Road, Atlanta, GA 30341, Telephone: (770) 488-2700.

For program technical assistance, contact: Karen Lang, Project Officer, 4770 Buford Hwy. NE, MS-K60, Atlanta, GA 30341-3724, Telephone: (770) 488-1118, E-mail: klang@cdc.gov.

For budget assistance, contact: Angie Nation, Grants Management Specialist, CDC Procurement and Grants Office, 2920 Brandywine Road, Suite 3000, Atlanta, GA 30341, Telephone: (770) 488-2719, E-mail: aen4@cdc.gov.

Dated: January 27, 2004.
Sandra R. Manning,
CGFM, Director, Procurement and Grants Office, Centers for Disease Control and Prevention.

[FR Doc. 04-2103 Filed 2-2-04; 8:45 am]

BILLING CODE 4163-18-P